DEPARTMENT OF JUSTICE

[OMB Number 1122-NEW]

Agency Information Collection Activities; Proposed eCollection eComments Requested

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until August 9, 2021.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Advocate Skill & Knowledge Needs Assessment.

(3) Agency form number, if any, and the applicable component of the Department of Justice sponsoring the collection: 1122-NEW. Sponsoring agency: U.S. Department of Justice, Office on Violence Against Women, which has supplied grant funds to the National Crime Victim Law Institute for a project of which the proposed survey is one component.

(4) Affected public who will be asked or required to respond, as well as a brief abstract: Established in 1995, OVW administers financial and technical assistance to communities across the country that are developing programs, policies, and practices that combat domestic/dating violence, sexual assault, and stalking. OVW administers both formula-based and discretionary grant programs, established under the Violence Against Women Act (VAWA) and subsequent legislation. Recipients of OVW funds work through a coordinated community response to support victims and hold perpetrators accountable. The National Crime Victim Law Institute (NCVLI) receives funding to provide training and technical assistance to help community-based and system-based advocates work collaboratively to support victims, particularly with regard to their legal rights in criminal justice. The training and technical assistance OVW award granted to NCVLI is the first award focused on system-based advocates and the dynamic relationship between system-based advocates and their community partners.

The purpose of this collection is two-fold: (1) To determine front-line advocates' (both system and community based) existing knowledge regarding victims' legal rights, particularly in criminal justice processes; and (2) the existence (or non-existence) and quality of relationships between community- and system-based advocates in a jurisdiction that can aid appropriate referrals for coordinated or complementary services. This collection will identify existing skills and knowledge as well as gaps, together with barriers to meaningful collaboration among and between advocates. This collection is critical because effective advocacy that promotes survivor agency and physical and emotional safety requires collaboration and coordination of community-based and system-based advocates and training and technical assistance provided should fill gaps and build upon existing knowledge and skills. The collection tool was developed in collaboration with an Advisory Committee of subject matter experts after determining that there has been no comparable assessment of knowledge and skills conducted to date. The Advisory Committee developed the collection tool to ensure its language is accessible and understandable to advocates; its questions will result in collection of data needed to identify gaps in knowledge and skills; and its structure is streamlined to ease burden. The information will be used by NCVLI to determine what training and technical assistance (TTA) is needed to ensure that communities have collaborative partnerships between community-based and system-based advocates and other service professionals in order to provide trauma-informed and survivor-centered services regarding victims' rights. This information will be used by OVW to ensure grantees are received targeted, informed training and technical assistance from NCVLI to ensure that grantees' professional and community needs are being met. The collection will be national in scope and will inform the development of TTA for NCVLI's national Project as well as future OVW criminal justice response programs.

The affected public are victim advocates (both system-based and community-based).

Explain Why Information Is Necessary, How It Will Be Collected (Electronically), How It Will Be Used

(5) An estimate of the total number of respondents and the amount of time estimated for an average respondent to respond/reply: It is estimated that it will take the hoped for 150 respondents approximately 10 minutes each to complete this one-time online survey, which will ask respondents about their knowledge of existing victims' rights laws as well as to evaluate their collaborative relationships. The survey will be a mix of multiple-choice, Likert scale and short narrative response questions. The information gathered will identify skill and knowledge gaps that can be addressed by OVW's Improving Criminal Justice Response TTA Program.

(6) An estimate of the total public burden (in hours) associated with the collection: The total hour burden of this one-time data collection is 25 hours (150 respondents each taking 10 minutes each). Respondents will be responding to this information collection once.

If additional information is required contact: Melody Braswell, Deputy Clearance Officer, United States Department of Justice, Justice Management Division, Policy and Planning Staff, Two Constitution Square, 145 N Street NE, 3E, 405B, Washington, DC 20530.

Dated: June 2, 2021.
Melody Braswell,
Department Clearance Officer, PRA, U.S. Department of Justice.

[FR Doc. 2021-11892 Filed 6-7-21; 8:45 am]

BILLING CODE 4410-FX-P